DEPARTMENT OF THE INTERIOR

Minerals Management Service

[DES 01-37]

Notice of availability of the Draft Environmental Impact Statement (EIS) for the Proposed Outer Continental Shelf (OCS) Oil and Gas Leasing Program for 2002 to 2007

AGENCY: Minerals Management Service, Interior.

ACTION: Notice of availability of the draft EIS for the proposed OCS Oil and Gas Leasing Program for 2002 to 2007.

SUMMARY: The MMS has prepared a draft EIS on the Proposed OCS 5-Year Oil and Gas Leasing Program for 2002 to 2007 pursuant to section 102(2)(C) of the National Environmental Policy Act of 1969.

DATES: Please submit comments on the draft EIS to the MMS by January 24, 2002. In accordance with 30 CFR 256.2(b), public hearings related to the draft EIS will be held in the Gulf of Mexico and Alaska Regions. The exact dates, times, and locations of the hearings will be announced by Federal Register notice in the near future.

FOR FURTHER INFORMATION CONTACT: Mr. Richard Wildermann, Minerals Management Service, Branch of Environmental Assessment, at (703) 787-1670.

SUPPLEMENTARY INFORMATION: This draft EIS addresses a proposed Federal action that will establish a schedule of oil and gas lease sales on the OCS for the years 2002 to 2007. The proposed program schedules a total of 20 lease sales in 8 areas. In the Gulf of Mexico Region, 2 sales are scheduled in the Eastern, 5 in the Central, and 5 in the Western Gulf Planning Areas. In the Alaska Region, 3 sales are scheduled in the Beaufort Sea Planning Area, 2 in the Chukchi Sea/Hope Basin Planning Areas, 2 in the Cook Inlet Planning Area, and 1 in the Norton Basin Planning Area. Three alternatives are also analyzed which would slow the pace of leasing by reducing the numbers of sales proposed in some planning areas, exclude some planning areas from the program, or accelerate leasing in some areas by adding sales. Also evaluated is a no action alternative which would consist of no leasing during the 2002 to 2007 period.

ADDRESSES: Comments on the draft EIS and written materials prepared as part of testimony at the public hearings should be mailed to the Minerals Management Service, Attention: Mr. Richard Wildermann, 381 Elden Street, Mail Stop 4042, Herndon, Virginia 20170-4817. Hand deliveries may be made to the Department of the Interior, Main Interior Building, 1849 C Street, NW., Room 4227, Washington, DC 20240. Envelopes or packages should be marked “2002-2007 Oil and Gas Program Draft EIS.” The MMS will also accept comments submitted by e-mail to MMS5-year.eis@mms.gov.

Public Comment Procedures: Our practice is to make comments, including the names and home address of respondents, available for public review. An individual commenter may ask that we withhold name, home address, or both from the public record, and we will honor such a request to the extent allowable by law. If you submit comments and wish us to withhold such information, you must state so prominently at the beginning of your submission.

We will not consider anonymous comments, and we will make available for inspection in their entirety all comments submitted by organizations and businesses or by individuals identifying themselves as representatives of organizations and businesses.

EIS Availability: To learn which libraries in Alaska have copies of the draft EIS contact the Alaska OCS Region, Minerals Management Service, 949 East 36th Avenue, Anchorage, Alaska 99508-4363, telephone 1-800-764-2627 or (907) 271-6438. On the Pacific coast contact the Pacific OCS Region, Minerals Management Service, 770 Paseo Camarillo, Camarillo, California 93010-6064, telephone (805) 389-7520. For availability of the draft EIS along the Gulf of Mexico and Atlantic coasts contact the Gulf of Mexico OCS Region, Minerals Management Service, 1201 Elmwood Park Boulevard, New Orleans, Louisiana 70123-2394, telephone (504) 736-2595. Information on the availability of the draft EIS can also be obtained from the Minerals Management Service, Attention: Mr. Richard Wildermann, 381 Elden Street, Mail Stop 4042, Herndon, Virginia 20170-4817, telephone (703) 787-1670.

The list of libraries and their locations is also available on the MMS Homepage on the Internet at http://www.mms.gov.

After the public hearing testimony and written comments on the draft EIS have been reviewed and analyzed, a final EIS will be prepared.

Dated: October 16, 2001.
Thomas A. Readinger,
Acting Associate Director for Offshore Minerals Management.
Dated: October 17, 2001.
Willie R. Taylor,
Director, Office of Environmental Policy and Compliance.

[FR Doc. 01-27033 Filed 10-25-01; 8:45 am]

BILLING CODE 4310-MR-P